DEPARTMENT OF THE INTERIOR

Bureau of Land Management

[LLES 934 0000 L1310 0000 FI0000]

Notice of Proposed Reinstatement of Terminated Oil and Gas Leases LAES 052403 and LAES 052404, Louisiana

AGENCY: Bureau of Land Management, Interior.

ACTION: Notice.

SUMMARY: In accordance with Title IV of the Federal Oil and Gas Royalty Management Act of 1982, Belle Exploration, Inc. filed a petition for reinstatement of oil and gas leases numbered LAES 052403 and LAES 052404 for lands in Concordia Parish, Louisiana. Petitioner has paid all required rentals and royalties accruing from December 1, 2011, the date of termination.

FOR FURTHER INFORMATION CONTACT: Kemba Anderson-Artis, Supervisory Land Law Examiner, Bureau of Land Management—Eastern States, 7450 Boston Blvd., Springfield, VA 22153; phone number 703-440-1659; email kembaand@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Bureau of Land Management—Eastern States (BLM-ES) is proposing to reinstate these leases effective December 1, 2011 (the date upon which they were terminated), as a Class II reinstatement in accordance with 43 CFR 3108, and under the original terms and conditions of the lease, excepting increased rental and royalty rates. The lessee agrees to pay higher rental and royalties at rates of $10 per acre or fraction thereof, per year, and 16⅔ percent, respectively. The public has 30 days after publication in the Federal Register to comment on the issuance of this Class II reinstatement. If no objections are received within that 30-day period, the BLM-ES will issue a decision to the lessee reinstating the lease. Written comments will be accepted by letter and may be addressed to: Bureau of Land Management—Eastern States, Attn: Kemba Anderson-Artis, 7450 Boston Blvd., Springfield, VA 22153. Comments may be sent via email to kembaand@blm.gov, or by fax to 703-440-1551. The lessee has paid the required $500 administrative fee and has reimbursed the BLM for the cost of publishing this Notice in the Federal Register. The lessee has met all the requirements for reinstatement as set out in the Federal Oil and Gas Royalty Management Act of 1982 (Pub. L. 97-451).

Kemba Anderson-Artis,
Supervisory Land Law Examiner.

[FR Doc. 2012-8445 Filed 4-6-12; 8:45 am]

BILLING CODE 4310-GJ-P